FEDERAL COMMUNICATIONS COMMISSION

Public Information Collections Approved by Office of Management and Budget

October 22, 2007.

The Federal Communications Commission (FCC) has received Office of Management and Budget (OMB) approval for the following public information collections pursuant to the Paperwork Reduction Act of 1995, Public Law 104-13. An agency may not conduct or sponsor and a person is not required to respond to a collection of information unless it displays a currently valid control number. For further information contact, Terry Conway, Federal Communications Commission, 445 12th Street, SW., Washington DC 20554, (202) 418-0950 or via the Internet at Terry.Conway@fcc.gov.

OMB Control No.: 3060-0779.

Expiration Date: 9/30/10.

Effective Date: 9/24/07.

Title: Amendment of Part 90 of the Commission's Rules to Provide for Use of the 220 MHz Band by the Private Land Mobile Radio Service (PLMRS), PR Docket No. 89-552.

Form No.: N/A.

Estimated Annual Burden: 2,313 responses; 23,433 total annual burden hours; 2-20 hours per respondent; and $657,500 annual costs.

Needs and Uses: This collection includes rules to govern the future operation and licensing of the 220-222 MHz band (220 MHz service). In establishing this licensing plan, the FCC's goal is to establish a flexible regulatory framework that allows for efficient licensing of the 220 MHz service, eliminates unnecessary regulatory burdens, and enhances the competitive potential of the 220 MHz service in the mobile service marketplace. However, as with any licensing and operational plan for a radio service, a certain number of regulatory and information collection and burdens are necessary to verify licensee compliance with FCC rules.

Federal Communications Commission.
Marlene H. Dortch,
Secretary.

[FR Doc. E7-21778 Filed 11-7-07; 8:45 am]

BILLING CODE 6712-01-P